SMALL BUSINESS ADMINISTRATION

[Declaration of Disaster #3503]

State of Georgia

Troup County and the contiguous counties of Coweta, Harris, Heard and Meriwether in the State of Georgia; and Chambers and Randolph Counties in the State of Alabama constitute a disaster area due to damages caused by severe storms, tornadoes and flooding that occurred on May 5, 2003 and continues. Applications for loans for physical damage as a result of this disaster may be filed until the close of business on July 22, 2003 and for economic injury until the close of business on February 23, 2004 at the address listed below or other locally announced locations: U.S. Small Business Administration, Disaster Area 2 Office, One Baltimore Place, Suite 300, Atlanta, GA 30308.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The number assigned to this disaster for physical damage is 350311 for Georgia and 350411 for Alabama. The number assigned to this disaster for economic damage is 9V3500 for Georgia and 9V3600 for Alabama.

(Catalog of Federal Domestic Assistance Program Nos. 59002 and 59008.)

Dated: May 23, 2003.
Hector V. Barreto,
Administrator.

[FR Doc. 03-13778 Filed 6-2-03; 8:45 am]

BILLING CODE 8025-01-P